DEPARTMENT OF COMMERCE

Bureau of Industry and Security

Materials Technical Advisory Committee; Notice of Partially Closed Meeting

The Materials Technical Advisory Committee will meet on July 15, 2004, 10:30 a.m., Herbert C. Hoover Building, Room 3884, 14th Street between Constitution & Pennsylvania Avenues, NW., Washington, DC. The Committee advises the Office of the Assistant Secretary for Export Administration with respect to technical questions that affect the level of export controls applicable to materials and related technology.

Agenda

Public Session

1. Opening remarks and introductions.

2. Presentation of papers and comments by the public.

3. Discussion of control status of toxic gas monitors.

Closed Session

4. Discussion of matters the premature disclosure of which would be likely to frustrate implementation of a proposed agency action as described in 5 U.S.C. 552b(c)(9)(B).

A limited number of seats will be available during the public session of the meeting. Reservations are not accepted. To the extent time permits, members of the public may present oral statements to the Committee. Written statements may be submitted at any time before or after the meeting. However, to facilitate distribution of public presentation materials to Committee members, the materials should be forwarded prior to the meeting to Ms. Lee Ann Carpenter at Lcarpent@bis.doc.gov.

The Assistant Secretary for Administration, with the concurrence of the delegate of the General Counsel, formally determined on May 28, 2004, pursuant to section 10(d) of the Federal Advisory Committee Act, as amended, that the portion of the meeting dealing with matters the premature disclosure of which would likely frustrate the implementation of a proposed agency action as described in 5 U.S.C. 552b(c)(9)(B) shall be exempt from the provisions relating to public meetings found in 5 U.S.C. app. 2 10(a)1 and 10(a)(3). The remaining portions of the meeting will be open to the public.

For more information, call Lee Ann Carpenter at (202) 482-2583.

Dated: June 7, 2004.
Lee Ann Carpenter,
Committee Liaison Officer.

[FR Doc. 04-13124 Filed 6-9-04; 8:45 am]

BILLING CODE 3510-JT-M